DEPARTMENT OF THE INTERIOR

National Park Service

[NPS-WASO-NAGPRA-NPS0037228; PPWOCRADN0-PCU00RP14.R50000]

Notice of Inventory Completion Amendment: University of Oregon Museum of Natural and Cultural History, Eugene, OR

AGENCY: National Park Service, Interior.

ACTION: Notice; amendment.

SUMMARY: In accordance with the Native American Graves Protection and Repatriation Act (NAGPRA), the University of Oregon Museum of Natural and Cultural History has amended a Notice of Inventory Completion published in the Federal Register on September 10, 2018. This notice amends the minimum number of individuals and number of associated funerary objects in a collection removed from Catron County, NM.

DATES: Repatriation of the human remains and associated funerary objects in this notice may occur on or after February 12, 2024.

ADDRESSES: Dr. Pamela Endzweig, Director of Anthropological Collections, University of Oregon Museum of Natural and Cultural History, 1224 University of Oregon, Eugene, OR 97403-1224, telephone (541) 346-5120, email endzweig@uoregon.edu.

SUPPLEMENTARY INFORMATION: This notice is published as part of the National Park Service's administrative responsibilities under NAGPRA. The determinations in this notice are the sole responsibility of the University of Oregon Museum of Natural and Cultural History. The National Park Service is not responsible for the determinations in this notice. Additional information on the amendments and determinations in this notice, including the results of consultation, can be found in the inventory or related records held by the University of Oregon Museum of Natural and Cultural History.

Amendment

This notice amends the determinations published in a Notice of Inventory Completion in the Federal Register (83 FR 45656-45657, September 10, 2018). Repatriation of the items in the original Notice of Inventory Completion has not occurred. From the SU Ranch Site, a minimum of 10 individuals (previously reported as nine individuals) were removed from the Tularosa River area in Catron County, NM. This notice adds a 1-2-year-old child of unknown sex. One associated funerary object (previously no associated funerary objects), catalogued as 2-2937, is a Tularosa corrugated bowl.

Determinations (as amended)

Pursuant to NAGPRA and its implementing regulations, and after consultation with the appropriate Indian Tribes and Native Hawaiian organizations, the University of Oregon Museum of Natural and Cultural History has determined that:

• The human remains described in this amended notice represent the physical remains of 10 individuals of Native American ancestry.

• The one object described in this amended notice is reasonably believed to have been placed with or near individual human remains at the time of death or later as part of the death rite or ceremony.

• There is a relationship of shared group identity that can be reasonably traced between the human remains and associated funerary objects described in this notice and the Fort Sill Apache Tribe of Oklahoma.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after February 12, 2024. If competing requests for repatriation are received, the University of Oregon Museum of Natural and Cultural History must determine the most appropriate requestor prior to repatriation. Requests for joint repatriation of the human remains and associated funerary objects are considered a single request and not competing requests. The University of Oregon Museum of Natural and Cultural History is responsible for sending a copy of this notice to the Indian Tribes and Native Hawaiian organizations identified in this notice.

Authority: Native American Graves Protection and Repatriation Act, 25 U.S.C. 3003, and the implementing regulations, 43 CFR 10.9, § 10.10, § 10.13, and § 10.14.

Dated: January 5, 2024.
Melanie O'Brien,
Manager, National NAGPRA Program.

[FR Doc. 2024-00525 Filed 1-11-24; 8:45 am]

BILLING CODE 4312-52-P